DEPARTMENT OF LABOR

Employment and Training Administration

[TA-W-51,945]

State of Alaska Commercial Fisheries Entry Commission Permit #S04K61830V, Kodiak, AK; Dismissal of Application for Reconsideration

Pursuant to 29 CFR 90.18(c) an application for administrative reconsideration was filed with the Director of the Division of Trade Adjustment Assistance for workers at State of Alaska Commercial Fisheries Entry Commission Permit #S04K61830V, Kodiak, Alaska. The application contained no new substantial information which would bear importantly on the Department's determination. Therefore, dismissal of the application was issued.

TA-W-51,945; State of Alaska Commercial Fisheries Entry Commission Permit #S04K61830V, Kodiak, Alaska (October 23, 2003).

Signed at Washington, DC, this 5th day of November, 2003.
Timothy Sullivan,
Director, Division of Trade Adjustment Assistance.

[FR Doc. 03-29130 Filed 11-20-03; 8:45 am]

BILLING CODE 4510-30-P